DEPARTMENT OF ENERGY

Federal Energy Regulatory Commission

[Project No. 2101-159]

Sacramento Municipal Utility District's Proposed Whitewater Recreation Management Plan for the Upper American River Hydroelectric Project No. 2101; Comment Period Extension

On January 22, 2019, the Commission issued a notice through the FERC eLibrary system ¹ setting February 21, 2019, as the end of the formal period to file comments, motions to intervene, and protests on P-2101-159: Sacramento Municipal Utility District's proposed whitewater recreation management plan for the Upper American River Hydroelectric Project No. 2101, located on the Rubicon River, Silver Creek, and South Fork American River in El Dorado and Sacramento counties, California. Due to the funding lapse at certain federal agencies between December 22, 2018, and January 25, 2019, the Commission is extending the comment period until February 28, 2019.

¹ Go to https://elibrary.ferc.gov/idmws/search/intermediate.asp?link_file=yes&doclist=14737973 and select the file link to view the document.

Dated: February 15, 2019.
Nathaniel J. Davis, Sr.,
Deputy Secretary.

[FR Doc. 2019-03147 Filed 2-26-19; 8:45 am]

BILLING CODE 6717-01-P